DEPARTMENT OF ENERGY

Federal Energy Regulatory Commission

Combined Notice of Filings

Take notice that the Commission has received the following Natural Gas Pipeline Rate and Refund Report filings:

Filings Instituting Proceedings

Docket Number: PR17-30-000.

Applicants: Kinder Morgan Keystone Gas Storage LLC.

Description: Tariff filing per 284.123(b),(e)+(g): Index Price Update Filing to be effective 5/1/17; Filing Type: 1300.

Filed Date: 3/1/17.

Accession Number: 201703015166.

Comments Due: 5 p.m. ET 3/21/17.

284.123(g) Protests Due: 5 p.m. ET5/1/17.

Docket Number: PR17-31-000.

Applicants: Southern California Gas Company.

Description: Tariff filing per 284.123(b),(e)+(g): Revision to rates for Offshore Delivery (OSHD) Refile to be effective 1/1/2017; Filing Type: 1300.

Filed Date: 3/2/17.

Accession Number: 201703025201.

Comments Due: 5 p.m. ET 3/23/17.

284.123(g) Protests Due: 5 p.m. ET5/1/17.

Docket Number: PR17-32-000.

Applicants: Enbridge Pipelines (North Texas) L.P.

Description: Tariff filing per 284.123(b),(e)/: Re-collation for Tariff Shark to be effective 3/3/2017; Filing Type: 980.

Filed Date: 3/3/17.

Accession Number: 201703035026.

Comments/Protests Due: 5 p.m. ET3/24/17.

Docket Number: PR17-33-000.

Applicants: Enbridge Pipelines (East Texas) L.P.

Description: Tariff filing per 284.123(b),(e)/: Enbridge Pipelines (East Texas) L.P. Re-collation filing for Tariff Shark to be effective 3/3/2017; Filing Type: 980.

Filed Date: 3/3/17.

Accession Number: 201703035027.

Comments/Protests Due: 5 p.m. ET3/24/17.

Docket Number: PR17-34-000.

Applicants: Enbridge Pipelines (Oklahoma Transmission) L.L.C.

Description: Tariff filing per 284.123(b),(e)/: ECOP Re-collation Filing for Tariff Shark to be effective 3/3/2017; Filing Type: 980.

Filed Date: 3/3/17.

Accession Number: 201703035028.

Comments/Protests Due: 5 p.m. ET3/24/17.

Docket Numbers: RP17-407-001.

Applicants: National Fuel Gas Supply Corporation.

Description: National Fuel Gas Supply Corporation submits tariff filing per 154.205(b): Filing Tracker—Supply Amend (Effective 5-1-17) to be effective 5/1/2017.

Filed Date: 03/07/2017.

Accession Number: 20170307-5207.

Comment Date: 5:00 p.m. Eastern Time on Monday, March 20, 2017.

Docket Numbers: RP17-520-000.

Applicants: Natural Gas Pipeline Company of America.

Description: Natural Gas Pipeline Company of America LLC submits tariff filing per 154.204: Tenaska Negotiated Rate to be effective 4/1/2017.

Filed Date: 03/07/2017.

Accession Number: 20170307-5039.

Comment Date: 5:00 p.m. Eastern Time on Monday, March 20, 2017.

Docket Numbers: RP17-521-000.

Applicants: Gulf South Pipeline Company, LP

Description: Gulf South Pipeline Company, LP submits tariff filing per 154.204: Amendments to Neg Rate Agmts (FPL 41618-23, 41619-12) to be effective 3/6/2017.

Filed Date: 03/07/2017.

Accession Number: 20170307-5046.

Comment Date: 5:00 p.m. Eastern Time on Monday, March 20, 2017.

Docket Numbers: RP17-522-000.

Applicants: Vector Pipeline L.P

Description: Annual Fuel Use Report for 2016 of Vector Pipeline L.P

Filed Date: 03/07/2017.

Accession Number: 20170307-5151.

Comment Date: 5:00 p.m. Eastern Time on Monday, March 20, 2017.

Docket Numbers: RP17-523-000.

Applicants: ANR Pipeline Company.

Description: ANR Pipeline Company submits tariff filing per 154.601: 2-1-17 Negotiated Rate Agreements to be effective 2/1/2017.

Filed Date: 03/07/2017.

Accession Number: 20170307-5209.

Comment Date: 5:00 p.m. Eastern Time on Monday, March 20, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2017.
Nathaniel J. Davis, Sr.,
Deputy Secretary.

[FR Doc. 2017-05437 Filed 3-17-17; 8:45 am]

BILLING CODE 6717-01-P